SOCIAL SECURITY ADMINISTRATION

Agency Information Collection Activities: Request for Emergency Review, Proposed Request and Comment Request

The Social Security Administration (SSA) publishes a list of information collection packages that will require clearance by the Office of Management and Budget (OMB) in compliance with P.L. 104-13 effective October 1, 1995, The Paperwork Reduction Act of 1995. SSA is soliciting comments on the accuracy of the agency's burden estimate; the need for the information; its practical utility; ways to enhance its quality, utility and clarity; and on ways to minimize burden on respondents, including the use of automated collection techniques or other forms of information technology.

Written comments and recommendations regarding the information collection(s) should be submitted to the SSA Reports Clearance Officer and to the OMB Desk Officer at the following addresses:

(OMB) Attn: Desk Officer for SSA, New Executive Office Building, Room 10230, 725 17th St., NW, Washington, D.C. 20503

(SSA) Social Security Administration, DCFAM, Attn: Frederick W. Brickenkamp, 1-A-21 Operations Bldg., 6401 Security Blvd., Baltimore, MD 21235

I. The information collection listed below has been submitted to OMB for emergency clearance. OMB approval has been requested by April 7, 2000. Comments will be most useful if submitted to OMB and SSA by this date.

Medicare Part B Buy-in Screening Project—0960-0601. Public Law (Pub. L.) 105-277 authorized SSA to conduct a Medicare buy-in demonstration project to evaluate means to promote the Medicare buy-in programs targeted to elderly and disabled individuals under titles XVIII and XIX of the Social Security Act. P.L. 106-113 extends the authority established for fiscal year (FY) 1999 and allows SSA to use money still available to continue exploring the Medicare buy-in program in FY 2000. A lack of awareness about the Medicare buy-in programs appears to be one of the major obstacles to enrollment. Other obstacles to enrollment include the confusion of potential eligibles as to how to apply for these programs and a preference for dealing with SSA field offices rather than with local Medicaid offices.

SSA will screen respondents voluntarily for potential Medicare Part B buy-in eligibility using a screening guide developed for this purpose. The screening guide will collect information from SSA beneficiaries regarding income, resources, marital status, and living arrangements and also ask questions about how they became aware of Medicare Part B buy-in programs. SSA will gather this information to identify and overcome obstacles to Medicare Part B buy-in enrollments and to determine potential eligibility for Medicare Part B benefits.

In one of the models, the Decisionmaking Model, SSA employees will complete State buy-in application forms for beneficiaries screened potentially eligible. SSA will then make a decision about the beneficiary's eligibility, following the State's Medicaid eligibility rules, and will pass all materials and its decision to the county welfare office for issuance of the buy-in award or denial notice. In another model called the Widow(er)s Model, SSA employees will complete the State buy-in application but not make the eligibility decision. The completed application will be submitted to the county welfare office for an eligibility determination.

Collection Instrument | SSA Screening Guide | State Buy-In Guide Application.
Number of Respondents | 25,000 | 15,000.
Frequency of Response | 1 | 1.
Average Burden Per Response | 20 minutes | 124 minutes.
Estimated Annual Burden | 8,333 hours | 31,000 hours.

II. The information collections listed below will be submitted to OMB within 60 days from the date of this notice. Your comments should be submitted to SSA within 60 days from the date of this publication. You can obtain a copy of the collection instruments by calling the SSA Reports Clearance Officer at 410-965-4145, or by writing to him at the address listed above.

1. Statement of Claimant or Other Person—0960-0045. In special situations when there is no standard form or questionnaire, Form SSA-795 is used by SSA to obtain information from claimants or other persons having knowledge of facts in connection with claims for Social Security or Supplementary Supplemental Security Income. The information collected is used to process claims for benefits. The respondents are applicants for Social Security or Supplemental Security Income benefits.

Number of Respondents: 305,500.

Frequency of Response: 1.

Average Burden Per Response: 15 minutes.

Estimated Annual Burden: 76,375 hours.

2. Student Statement Regarding School Attendance—0960-NEW. The information on Form SSA-1372-TEST is needed to determine whether children of an insured worker are eligible for benefits as a student. SSA will conduct a limited trial of a revised SSA-1372 (Student Statement Regarding School Attendance) designated as SSA-1372-TEST. This limited test will study the efficacy and usability of the new format. Results of the testing will formulate SSA's decision to reject, modify or institute the revised form. The respondents are student claimants for Social Security Benefits and their respective schools.

Number of respondents: 2,000.

Number of Response: 1.

Average burden per response: 10 minutes.

Estimated Annual Burden: 333 hours.

III. The information collections listed below have been submitted to OMB for clearance. Your comments on the information collections would be most useful if received by OMB and SSA within 30 days from the date of this publication. You can obtain a copy of the OMB clearance package by calling the SSA Reports Clearance Officer on (410) 965-4145, or by writing to him at the address listed above.

1. Privacy and Disclosure of Official Records and Information: Availability of Information and Records to the Public—20 CFR 401 and 402—0960-0566. The respondents are individuals requesting access to their SSA records, correction of their SSA records and disclosure of SSA records. This information is required to:

(a) Identify individuals who request access to their records:

Number of Respondents: 10,000.

Frequency of Response: On Occasion.

Average Burden Per Response: 11 minutes.

Estimated Annual Burden: 1,833 hours.

(b) Designate an individual to receive and review a recordholder's sensitive medical records in accordance with 20 CFR 401.55 and for disclosure of such records to the recordholder by his/her designee:

Number of Respondents: 3,000.

Frequency of Response: On Occasion.

Average Burden Per Response: 2 hours.

Estimated Annual Burden: 6,000 hours.

(c) Correct or amend records:

Number of Respondents: 100.

Frequency of Response: On Occasion.

Average Burden Per Response: 10 minutes.

Estimated Annual Burden: 17 hours.

(d) Obtain consent from an individual to release his/her records to others. Consents are submitted by letter in writing or by use of an SSA-3288:

Number of Respondents: 2,200,000.

Frequency of Response: On Occasion.

Average Burden Per Response: 3 minutes.

Estimated Annual Burden: 110,000 hours.

(e) Facilitate the release of information under the Freedom of Information Act (FOIA):

Number of Respondents: 15,000.

Frequency of Response: On Occasion.

Average Burden Per Response: 5 minutes.

Estimated Annual Burden: 1,250.

(f) Grant Waiver or reduction of fees for records requested under FOIA:

Number of Respondents: 400.

Frequency of Response: On Occasion.

Average Burden Per Response: 5 minutes.

Estimated Annual Burden: 33 hours.

2. Annual Registration Statement Identifying Separated Participants with Deferred Benefits, Schedule SSA—0960-0606 (1999 edition). Schedule SSA is a form filed annually as part of a series of pension plan documents required by Section 6057 of the IRS Code. Administrators of pension benefit plans are required to report specific information on future plan benefits for those participants who left plan coverage during the year. SSA maintains the information until a claim for Social Security benefits has been approved. At that time, SSA notifies the beneficiary of his/her potential eligibility for payments from the private pension plan. The respondents are administrators of pension benefit plans or their service providers employed to prepare the Schedule SSA on behalf of the pension benefit plan.

Below is an estimate of the cost and hour burdens in completing and filing Schedule SSA(s). The burden estimates will vary for different plans and service providers, depending on individual circumstances. Therefore, the estimate below is simply an average.

Number of Respondents: 88,000.

Frequency of Response: Annually.

Average Burden Per Respondent: 2.5 hours.

Estimated Annual Burden: 220,074 hours.

Estimated Annual Cost Burden for All Respondents: $12,194,400.

Dated: March 21, 2000.
Frederick W. Brickenkamp,
Reports Clearance Officer.

[FR Doc. 00-7422 Filed 3-24-00; 8:45 am]

BILLING CODE 4191-02-P